NUCLEAR REGULATORY COMMISSION

Sunshine Act Meeting

AGENCY HOLDING THE MEETING: Nuclear Regulatory Commission

DATE: Week of December 13, 2004.

PLACE: Commissioners' Conference Room, 11555 Rockville Pike, Rockville, Maryland.

STATUS: Public and Closed.

ADDITIONAL MATTERS TO BE CONSIDERED:

Week of December 13, 2004

Tuesday, December 14, 2004

12:55 p.m. Affirmation Session (Public Meeting) (Tentative)

A. Hydro Resources, Inc. Petition for Review of LBP-04-23 (Final Environmental Impact Statement Supplementation) (Tentative)

b. State of Alaska Department of Transportation and Public Facilities (Confirmatory Order Modifying License); Intervenor's Motion for Reconsideration of CLI-04-26 (Tentative)

c. Final Amendments to 10 CFR Part 50, Appendix E, Relating to (1) Nuclear Regulatory Commission Review of Changes to Emergency Action Levels, Paragraph IV.B and (2) Exercise Requirements for Co-Located Licensees, Paragraph IV.F.2 (Tentative)

1 p.m. Briefing on Emergency Preparedness Program Initiatives (Public Meeting) (Contact: Nader Mamish, 301-415-1086)

This meeting will be webcast live at the Web address— http://www.nrc.gov.

The schedule for Commission meetings is subject to change on short notice. To verify the status of meetings call (recording)—(301) 415-1292. Contact person for more information: Dave Gamberoni, (301) 415-1651.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g., braille, large print), please notify the NRC's Disability program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically please send an electronic message to dkw@nrc.gov.

Dated: December 10, 2004.
Sandy Joosten,
Office of the Secretary.

[FR Doc. 04-27491 Filed 12-13-04; 9:24 am]

BILLING CODE 7590-01-M